DEPARTMENT OF THE INTERIOR

Central Utah Project Completion Act

AGENCIES: Department of the Interior, Office of the Assistant Secretary—Water and Science, (Interior); Utah Reclamation Mitigation and Conservation Commission, (Mitigation Commission); Central Utah Water Conservancy District, (CUWCD).

ACTION: Notice of availability of the Utah Lake Drainage Basin Water Delivery System, Final Environmental Impact Statement for the facilities and measures authorized in Sections 202(a)(1), 202(c), 207, and 302 of the Central Utah Project Completion Act (CUPCA), which is part of the Bonneville Unit of the Central Utah Project.

SUMMARY: Pursuant to section 102(2)(C) of the National Environmental Policy Act of 1969, as amended, Interior, CUWCD, and the Mitigation Commission (Joint-Lead Agencies), have issued a Final Environmental Impact Statement (FEIS) for the Utah Lake Drainage Basin Water Delivery System (Utah Lake System), Bonneville Unit, Central Utah Project. The FEIS addresses potential impacts related to construction and operation of the features proposed for the Utah Lake System. The FEIS is intended to satisfy disclosure requirements of the National Environmental Policy Act (NEPA) and will serve as the NEPA compliance document for contracts, agreements and permits that would be required for construction and operation of the Utah Lake System. The Joint-Lead Agencies intend to seek Clean Water Act compliance through Section 404(r) provisions by including a 404(b)(1) analysis within the FEIS and therefore an exemption from the requirements to obtain a Section 404 permit for construction. In addition to this notification, notices will be published in local newspapers.

FOR FURTHER INFORMATION CONTACT: Additional information on matters related to this notice can be obtained from Mr. Reed Murray at (801) 379-1237, or rmurray@uc.usbr.gov.

Additional copies of the FEIS, and copies of the resource technical reports can be obtained from Ms. Laurie Barnett, Central Utah Water Conservancy District, 355 West University Parkway, Orem, Utah, 84058.

Copies are also available for inspection at:

Central Utah Water Conservancy District, 355 West University Parkway, Orem, Utah 84058;

Utah Reclamation Mitigation and Conservation Commission, 102 West 500 South, Suite 315, Salt Lake City UT 84101;

Department of the Interior, Natural Resource Library, Serials Branch, 18th C Streets, NW., Washington, DC 20240;

Department of the Interior, Central Utah Project Completion Act Office, 302 East 1860 South, Provo, Utah 84606.

and on the Central Utah Water Conservancy District Web site at: http://www.cuwcd.com/cupca/projects/uls/index.htm.

SUPPLEMENTARY INFORMATION: Background—The Utah Lake System is one of the systems of the Bonneville Unit of the Central Utah Project that would develop central Utah's water resources for municipal and industrial supply, fish and wildlife, and recreation. Initiation of planning for the Utah Lake System was announced in the Federal Register on October 14, 1998 (FR Doc. 98-27484). Notice of intent to initiate scoping and prepare a Draft Environmental Impact Statement (DEIS) was announced in the Federal Register on August 23, 2000 (FR Doc. 00-21458). Scoping was accomplished in two stages: informal scoping was conducted through public meetings in September 2000 and October 2001; and formal scoping was conducted through mailings and public meetings during February 2002. The DEIS was issued by the Joint-Lead Agencies on March 25, 2004. Notice of availability of the DEIS was published in the Federal Register on March 30, 2004, (FR Doc. 04-7034). Comments received during the public comment period from March 25, 2004, until June 11, 2004, were considered during preparation of the FEIS. Public hearings were held April 28 and 29, 2004, for the purpose of receiving comments on the DEIS. Publication of the Record of Decision will occur no sooner than 30 days from the date of this notice.

Proposed Action Alternative—The Utah Lake System Proposed Action Alternative would provide an average transbasin diversion of 101,900 acre-feet which consists of 30,000 acre-feet of Municipal and Industrial (M&I) secondary water to southern Utah County and 30,000 acre-feet of M&I water to Salt Lake County water treatment plants; and 40,310 acre-feet of M&I water to Utah Lake for exchange to Jordanelle Reservoir. It would conserve water in a Mapleton-Springville Lateral Pipeline, conserve water in the Provo River basin and deliver it along with acquired water to assist June sucker spawning and rearing in the lower Provo River, convey water to support year-round instream flows in Provo River and seasonal instream flows in Hobble Creek to assist in the recovery of the June sucker, and develop hydropower. This alternative would involve construction of five new pipelines for delivery of water and 2 new hydropower plants and associated transmission lines. Under this alternative, Interior would acquire 57,000 acre-feet of the District's secondary water rights in Utah Lake to provide a firm annual yield of 60,000 acre-feet of ULS M&I water.

Bonneville Unit Water Alternative—The Bonneville Unit Water Alternative would have an average transbasin diversion of 101,900 acre-feet consisting of: 15,800 acre-feet of M&I water to southern Utah County to be used in secondary water systems; and 84,510 acre-feet of M&I water delivered to Utah Lake for exchange to Jordanelle Reservoir. It would conserve water in a Mapleton-Springville Lateral Pipeline, conserve water in the Provo River basin and deliver it along with acquired water to assist June sucker spawning and rearing in the lower Provo River, convey water to support instream flows in Hobble Creek to assist recovery of the June sucker, and develop hydropower. It would involve construction of three new pipelines and two new hydropower plants with associated transmission lines. Under this alternative, Interior would acquire 15,000 acre-feet of the District's secondary water rights in Utah Lake to provide a firm annual yield of 15,800 acre-feet of M&I water.

No Action Alternative—No new water conveyance features would be constructed under the No Action Alternative. It would provide the delivery of 86,100 acre-feet of water from Strawberry Reservoir to Utah Lake for the Bonneville Unit M&I exchange water. The 15,800 acre-feet of Bonneville Unit water would remain in Strawberry Reservoir to provide a firm supply for the Bonneville Unit M&I exchange. Some of the Bonneville Unit M&I exchange water would be routed through the Strawberry Tunnel to meet instream flow needs in Sixth Water and Diamond Fork creeks. The remaining Bonneville Unit M&I exchange water would be conveyed through the Diamond Fork System and discharged into Diamond Fork Creek at the outlet near Monks Hollow or discharged from the Diamond Fork Pipeline into the Spanish Fork River at the mouth of Diamond Fork Canyon. The irrigation diversions on lower Spanish Fork River would be modified to bypass and measure the 86,100 acre-feet into Utah Lake, and to allow fish passage as previously agreed by the Interior and District in the 1999 Diamond Fork FS-FEIS and ROD. Interior would not purchase any of the District's secondary water rights in Utah Lake and no water would be conveyed to Hobble Creek for June sucker recovery. The No Action Alternative would be the same as the Interim Proposed Action in the Diamond Fork FS-FEIS.

Dated: September 30, 2004.
Ronald Johnston,
Program Director, Department of the Interior.

Dated: September 30, 2004.
Michael C. Weland,
Executive Director, Utah Reclamation Mitigation and Conservation Commission.

[FR Doc. 04-22337 Filed 10-4-04; 8:45 am]

BILLING CODE 4310-RK-P